DEPARTMENT OF LABOR

Office of the Secretary

Agency Information Collection Activities; Submission for OMB Review; Comment Request; Trade Adjustment Assistance Community College and Career Training Grant Program Reporting Requirements

ACTION: Notice.

SUMMARY: On March 31, 2015, the Department of Labor (DOL) will submit the Employment and Training Administration (ETA) sponsored information collection request (ICR) titled, “Trade Adjustment Assistance Community College and Career Training Grant Program Reporting Requirements,” to the Office of Management and Budget (OMB) for review and approval for continued use, without change, in accordance with the Paperwork Reduction Act (PRA) of 1995 (44 U.S.C. 3501 et seq.). Public comments on the ICR are invited.

DATES: The OMB will consider all written comments that agency receives on or before April 30, 2015.

ADDRESSES: A copy of this ICR with applicable supporting documentation; including a description of the likely respondents, proposed frequency of response, and estimated total burden may be obtained free of charge from the RegInfo.gov Web site at http://www.reginfo.gov/public/do/PRAViewICR?ref_nbr=201503-1205-019 (this link will only become active on April 1, 2015) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue, NW., Washington, DC 20210; or by email: DOL_PRA_PUBLIC@dol.gov.

FOR FURTHER INFORMATION CONTACT: Contact Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks to extend PRA authority for Trade Adjustment Assistance Community College and Career Training (TAACCCT) Grant Program Reporting Requirements, Form numbers ETA-9159 and ETA-9160, information collection that requires a grantee to submit quarterly progress reports with a narrative summary of a least two progress measures and at least two implementation measures identified by the grantee in the project work, plan. Every fourth quarter, the grantee submits an annual performance report with standardized outcome measures that will include aggregate data for program participants for the following ten outcome measures: Unique participants served/enrolled, total number of participants who have completed a grant-funded program of study, total number still retained in their programs of study, total number retained in other education programs, total number of credit hours completed, total number of earned credentials, total number pursuing further education after program of study completion, total number employed after program of study completion, total number retained in employment after program of study completion, and the total number of those employed at enrollment who receive a wage increase post-enrollment. These reports help the ETA gauge the effects of TAACCCT grants, identify grantees that could serve as useful models, and target technical assistance appropriately. Trade and Globalization Adjustment Assistance Act of 2009 section 1872 authorizes this information collection. See 19 U.S.C. 2371.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0489. The current approval is scheduled to expire on March 31, 2015; however, the DOL notes that existing information collection requirements submitted to the OMB receive a month-to-month extension while they undergo review. For additional substantive information about this ICR, see the related notice published in the Federal Register on December 30, 2014 (79 FR 78493).

Interested parties are encouraged to send comments to the OMB, Office of Information and Regulatory Affairs at the address shown in the ADDRESSES section by April 30, 2015. In order to help ensure appropriate consideration, comments should mention OMB Control Number 1205-0489. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Trade Adjustment Assistance Community College and Career Training Grant Program Reporting Requirements.

OMB Control Number: 1205-0489.

Affected Public: Individuals or Households and State, Local, and Tribal, Governments.

Total Estimated Number of Respondents: 81,931.

Total Estimated Number of Responses: 848,032.

Total Estimated Annual Time Burden: 66,390 hours.

Total Estimated Annual Other Costs Burden: $0.

Dated: March 24, 2015.
Michel Smyth,
Departmental Clearance Officer.

[FR Doc. 2015-07132 Filed 3-27-15; 8:45 am]

BILLING CODE 4510-FN-P